DEPARTMENT OF COMMERCE

Foreign-Trade Zones Board

[Docket 35-2003]

Foreign-Trade Zone 33—Pittsburgh, PA, Application for Subzone Status, Mitsubishi Electric Power Products, Inc. (Circuit Breakers), Warrendale and Freedom, PA; Amendment of Application: Additional Foreign Components

Notice is hereby given that the application of Board (the Board) by the Regional Industrial Development Corporation of Southwestern Pennsylvania, grantee of FTZ 33, requesting special-purpose subzone status for the circuit breaker manufacturing facilities of Mitsubishi Electric Power Products, Inc. (MEPPI) (a subsidiary of Mitsubishi Electric Corporation, of Japan), located in Warrendale and Freedom, Pennsylvania (68 FR 44281, 7-28-03), has been amended to revise the scope of sourcing authority to include additional foreign-origin components to be used in the manufacture of high-voltage circuit breakers under foreign-trade zone (FTZ) procedures. The additional components that would be purchased from abroad include: insulated wire, current transformers, capacitors, generators, monitors, circuit breakers, and sensors (2004 duty rate range: free—3.9%). FTZ procedures would exempt MEPPI from Customs duty payments on the foreign components noted above that are used in export production. On its domestic sales and exports to NAFTA markets, the company would be able to choose the duty rate that applies to finished circuit breakers (2.0%) for these foreign-sourced components.

Public comment on the application is invited from interested parties. The comment period is hereby reopened until March 25, 2004. Submissions (original and three copies) shall be addressed to the Board's Executive Secretary at the following addresses:

1. Submissions via Express/Package Delivery Services: Foreign-Trade Zones Board, U.S. Department of Commerce, Franklin Court Building—Suite 4100W, 1099 14th Street, NW., Washington, DC 20005; or,

2. Submissions via the U.S. Postal Service: Foreign-Trade Zones Board, U.S. Department of Commerce, FCB-4100W, 1401 Constitution Ave., NW., Washington, DC 20230.

A copy of the application is available for public inspection at the Office of the Foreign-Trade Zones Board's Executive Secretary at address No.1 listed above and at the U.S. Department of Commerce Export Assistance Center, Suite 2002, 1000 Liberty Avenue, Pittsburgh, PA 15222.

Dated: February 13, 2004.
Dennis Puccinelli,
Executive Secretary.

[FR Doc. 04-3983 Filed 2-23-04; 8:45 am]

BILLING CODE 3510-DS-P